DEPARTMENT OF ENERGY

Final Environmental Impact Statement for a Geologic Repository for the Disposal of Spent Nuclear Fuel and High-Level Radioactive Waste at Yucca Mountain, Nye County, NV

AGENCY: Department of Energy.

ACTION: Notice of Distribution.

SUMMARY: The Department of Energy (DOE) announces the distribution and availability of the Final Environmental Impact Statement for a Geologic Repository for the Disposal of Spent Nuclear Fuel and High-Level Radioactive Waste at Yucca Mountain, Nye County, Nevada (DOE/EIS-0250F) in paper and CD ROM format. The Nuclear Waste Policy Act of 1982, as amended (NWPA) (42 U.S.C. 10101 et seq.) requires that any recommendation from the Secretary of Energy to the President that the President approve the Yucca Mountain site for the development of a repository must include a final environmental impact statement (EIS). Accordingly, the Department prepared this Final EIS consistent with the NWPA, the National Environmental Policy Act of 1969 (NEPA) (42 U.S.C. 4321 et seq.), the Council on Environmental Quality (CEQ) regulations that implement the procedural provisions of NEPA (40 CFR parts 1500-1508), and the DOE procedures implementing NEPA (10 CFR part 1021). The Final EIS has been filed with the U.S. Environmental Protection Agency. The Final EIS provides information on potential environmental impacts that could result from a Proposed Action to construct, operate and monitor, and eventually close a repository for the disposal of spent nuclear fuel and high-level radioactive waste at Yucca Mountain in Nevada, including potential impacts from transporting spent nuclear fuel and high-level radioactive waste to the repository. The Final EIS also considers the potential environmental impacts from an alternative referred to as the No-Action Alternative, under which a repository would not be developed at Yucca Mountain.

DATES: The Final EIS accompanied the Secretary of Energy's recommendation to the President regarding the suitability of the Yucca Mountain site for the development of a geologic repository on February 14, 2002, and was made available to the public electronically on the Internet and in public reading rooms at that time, pursuant to the NWPA. On February 15, 2002, the President transmitted his recommendation of the site to Congress. After the State of Nevada submitted a notice of disapproval on April 8, 2002, the U.S. House of Representatives and the Senate passed a resolution to approve the site on May 8 and July 9, 2002 respectively. The President signed the resolution approving the site on July 23, 2002.

ADDRESSES: Written requests for further information on the Final EIS, and requests for paper copies of the document (or a CD-ROM version) should be directed to: Dr. Jane Summerson, EIS Document Manager, M/S 010, U.S. Department of Energy, Office of Civilian Radioactive Waste Management, Yucca Mountain Site Characterization Office, P.O. Box 364629, North Las Vegas, Nevada 89036-8629, Telephone 1-800-225-6972, Facsimile 1-800-967-0739.

The Final EIS is available electronically on the Internet at www.ymp.gov and will also be available on the DOE NEPA Web site at http://tis.eh.doe.gov/nepa/. Addresses of the locations where paper copies of the Final EIS are available for public review are listed in this Notice in the SUPPLEMENTARY INFORMATION section under “Distribution and Availability of the Final EIS.”

FOR FURTHER INFORMATION CONTACT: Dr. Jane Summerson, EIS Document Manager, M/S 010, U.S. Department of Energy, Office of Civilian Radioactive Waste Management, Yucca Mountain Site Characterization Office, P.O. Box 364629, North Las Vegas, Nevada 89036-8629, Telephone 1-800-225-6972, Facsimile 1-800-967-0739.

General information on the DOE NEPA process may be requested from: Ms. Carol M. Borgstrom, Director, Office of NEPA Policy and Compliance (EH-42), U.S. Department of Energy, 1000 Independence Ave., SW., Washington, DC 20585, Telephone 1-202-586-4600, or leave a message at 1-800-472-2756.

SUPPLEMENTARY INFORMATION:

Background

On August 7, 1995, the Department published a Notice of Intent (60 FR 40164) to prepare an Environmental Impact Statement for a Geologic Repository for the Disposal of Spent Nuclear Fuel and High-Level Radioactive Waste at Yucca Mountain, Nye County, Nevada. The purpose of the Notice of Intent was to inform the public of the proposed scope of the Repository EIS, to solicit public input, and to announce that scoping meetings would be held from August through October 1995. During that period 15 public scoping meetings were held throughout the United States to obtain public comments regarding the scope, alternatives, and issues that should be addressed in the EIS. The scoping period closed on December 5, 1995. In May 1997, DOE published the Summary of Public Scoping Comments Related to the Environmental Impact Statement for a Geologic Repository for the Disposal of Spent Nuclear Fuel and High-level Radioactive Waste at Yucca Mountain, Nye County, Nevada, which summarized the comments received by DOE during the scoping process and described how DOE planned at that time to address issues raised during scoping. A Notice of Availability for the Summary of Public Scoping Comments document was published on July 9, 1997 (62 FR 36789).

On August 13, 1999, DOE published a notice in the Federal Register announcing the availability of the Draft Environmental Impact Statement (64 FR 44200). The comment period for the Draft EIS was 199 days, with 21 public hearings conducted nationally and in the State of Nevada. On May 4, 2001, DOE published a notice in the Federal Register announcing the availability of a Supplement to the Draft Environmental Impact Statement (66 FR 22540). The comment period for the Supplement to the Draft EIS was 57 days, with 3 public hearings conducted in the State of Nevada.

Alternatives Considered

The Final EIS evaluates a Proposed Action and a No-Action Alternative. Under the Proposed Action, DOE would construct, operate and monitor, and eventually close a geologic repository at Yucca Mountain for the disposal of as much as 70,000 metric tons of spent nuclear fuel and high-level radioactive waste. The Proposed Action includes the transportation of spent nuclear fuel and high-level radioactive waste to Yucca Mountain from commercial and DOE sites. Under the No-Action Alternative, DOE would end activities at Yucca Mountain, and commercial and DOE sites would continue to store spent nuclear fuel and high-level radioactive waste, packaged as necessary for their safe on-site management.

Two national transportation scenarios are evaluated in the Final EIS. The mostly legal-weight truck ¹ scenario assumes that, with a few exceptions, spent nuclear fuel and high-level radioactive waste would be shipped to the repository by legal-weight truck over existing highways. The mostly rail scenario assumes that spent nuclear fuel and high-level radioactive waste would be shipped to Nevada by rail, with some exceptions (based largely on the on-site loading limitations at some commercial sites).

¹ Truck with a gross vehicle weight (both truck and cargo) of less than 80,000 pounds.

The Nevada transportation implementing alternatives parallel the national transportation scenarios. However, because no rail access currently exists to the repository site, the EIS considers different implementing alternatives for the construction of either a new branch rail line to the proposed repository, or an intermodal transfer station ² with associated highway routes for heavy-haul trucks.³

² An intermodal transfer station is a facility at the juncture of rail and road transportation used to transfer shipping casks containing spent nuclear fuel and high-level radioactive waste from rail to truck and empty casks from truck to rail.

³ Shipment of a rail cask (weighing up to 300,000 pounds) on a special truck and trailer combination that would have a total weight of approximately 500,000 pounds.

Under the No-Action Alternative, DOE would end activities at Yucca Mountain and undertake site reclamation to mitigate adverse environmental impacts from those activities. The commercial nuclear power utilities and DOE would continue to store spent nuclear fuel and high-level radioactive waste. Because it would be highly speculative to attempt to predict future events, DOE decided to illustrate that set of possibilities by focusing its analysis of the No-Action Alternative on the potential impacts of two scenarios. Scenario 1 assumes that spent nuclear fuel and high-level radioactive waste would remain at the 72 commercial and 5 DOE sites under institutional control for at least 10,000 years. Scenario 2 also assumes that spent nuclear fuel and high-level radioactive waste would remain at the 77 sites in perpetuity, but under institutional control for only about 100 years.

Final EIS

The Final EIS differs from the Draft EIS and Supplement in several respects. Changes were made in the Final EIS in response to comments on the Draft EIS and Supplement, to correct errors in the Draft EIS and Supplement, and to provide new information or improved analyses relevant to the Final EIS. The Final EIS includes the Readers Guide and Summary; Volume I—Impact Analyses (Chapters 1-15); Volume II—Appendices A-O; and Volume III—Comment Response Document (Parts 1-4). In addition, Volume IV contains information regarding transportation and repository accident scenarios, and is only available as discussed below. Included with the Final EIS is an errata sheet, which describes errors in the Final EIS identified by DOE after the EIS was approved in February 2002. These errors have been considered both individually and collectively, and DOE has determined that no errors identified would cause a significant change to the environmental impacts, nor would they change the conclusions reached in the Final EIS.

The Final EIS evaluates (1) the potential impacts of the construction, operation and monitoring, and eventual closure of a repository; (2) the potential long-term impacts of repository disposal of spent nuclear fuel and high-level radioactive waste; (3) the potential impacts of transporting these materials to the repository; and (4) the potential impacts of not proceeding with a repository. The Final EIS identifies the Department's preferred alternative, which is to proceed with the proposed action to construct, operate and monitor, and eventually close a repository at Yucca Mountain, and to use mostly rail, both nationally and in Nevada, to transport spent nuclear fuel and high-level radioactive waste to the repository.

Distribution and Availability of the Final EIS

Paper copies of the Readers Guide and Summary and the errata sheet, and a CD-ROM of the Final EIS (Volumes I, II, and III), were distributed to Members of Congress, Federal, State, and Indian tribal governments, local officials, persons, agencies, and organizations who commented on the Draft EIS and Supplement to the Draft EIS, and others who have indicated an interest in the EIS process. Paper copies of the 5,000-page Final EIS may also be requested as indicated previously in the ADDRESSES and FOR FURTHER INFORMATION CONTACT sections of this notice. However, in light of the events of September 11, 2001, Volume IV is available only upon written request to the DOE EIS Document Manager at the address provided in the ADDRESSES section. The Final EIS is available electronically on the Internet at www.ymp.gov, and will also be available on the DOE NEPA Web site at http://tis.eh.doe.gov/nepa/. Addresses of Public Reading Rooms and libraries where the Final EIS is available for public review are listed below. Copies of references considered in preparation of the Final EIS are available at the following Public Reading Rooms: University of Nevada-Las Vegas, Nevada; University of Nevada-Reno, Nevada; Beatty Yucca Mountain Science Center, Nevada; and the DOE Headquarters Office in Washington, DC.

The Environmental Protection Agency has published a separate Notice of Availability of the Final EIS.

Public Reading Rooms

California

Inyo County—Contact: Andrew Remus; (760) 878-0447; Inyo County Yucca Mountain Repository Assessment Office; 168 North Edwards Street; Post Office Drawer L; Independence, CA 93526.

Oakland Operations Office—Contact: Judy Weiss; (510) 637-1762; U. S. Department of Energy Public Reading Room; EIC; 1301 Clay Street, Room 700N; Oakland, CA 94612-5208.

Colorado

National Renewable Energy Laboratory—Contact: John Horst; (303) 275-4709; Public Reading Room; 1617 Cole Boulevard; Building 17-4; Golden, CO 80401.

Rocky Flats Public Reading Room—Contact: Gary Morell; (303) 469-4435; College Hill Library; 3705 112th Avenue; Westminster, CO 80030.

DOE Headquarters

Headquarters Office—Contact: Carolyn Lawson; (202) 586-3142; U.S. Department of Energy; Room 1E-190, Forrestal Building; 1000 Independence Avenue, SW; Washington, DC 20585.

Georgia

Atlanta Support Office—Contact: Ron Henderson; (404) 562-0555; Department of Energy; Public Reading Room; 75 Spring Street, Suite 200; Atlanta, GA 30303.

Southeastern Power Administration—Contact: Joel W. Seymour; (706) 213-3810; U.S. Department of Energy; Reading Room; 1166 Athens Tech Road; Elberton, GA 30635-6711.

Idaho

Boise State University Library—Contact: Elaine Watson; (208) 426-1737; Government Documents; 1910 University Drive; Boise, ID 83725-1430.

Idaho Operations Office—Contact: Brent Jacobson; (208) 526-1144; U.S. DOE Public Reading Room; 1776 Science Center Drive M/S 2300; Idaho Falls, ID 83415.

Illinois

Chicago Operations Office—Contact: Tiffany Fotno; (312) 996-2738; Document Department; University of Illinois at Chicago; 801 South Morgan Street M/C 234; Chicago, IL 60680.

Louisiana

Strategic Petroleum Reserve Project Management Office—Contact: Deanna Harvey (FE 445); (504) 734-4316; U.S. Department of Energy; SPRPMO Reading Room; 900 Commerce Road, East; New Orleans, LA 70123.

Nevada

Lander County—Contact: Mickey Yarbro; (775) 635-2885; 315 S. Humboldt Street, Battle Mountain, NV 89820.

Beatty Yucca Mountain Science Center—Contact: Marina Anderson; (775) 553-2130; 100 North E Avenue; Beatty, NV 89003.

Lincoln County—Contact: Lola Stark; (775) 726-3511; Box 1068 100 Depot Avenue, Suite 15; Caliente, NV 89008.

Nevada State Clearinghouse—Contact: Heather Elliot; (775) 684-0209; Department of Administration; 209 Musser Street, Room 200; Carson City, NV 89701.

White Pine County—Contact: Josie Larson; (775) 289-2033; Nuclear Waste Project Office; 959 Campton Street; Ely, NV 89301.

Eureka County—Contact: Leonard Fiorenzi; (775) 237-5372; Eureka County Public Works; 701 South Main St.; Eureka, NV 89301.

Churchill County—Contact: Alan Kalt; (775) 428-0212; 155 North Taylor Street, Suite 182; Fallon, NV 89046-2478.

Esmeralda County—Contact: George McCorkell; (775) 485-3419; Yucca Mountain Public Information Center; 105 S. Main Street; Goldfield, NV 89013.

Mineral County—Contact: Linda Mathius; (775) 945-2484; First & A Streets; Hawthorne, NV 89415.

Clark County—Contact: Irene Navis; (702) 455-5129; 500 South Grand Central Parkway #3012; Las Vegas, NV 89106.

Las Vegas, Nevada—Contact: Susie Skarl; (702) 895-2200; University of Nevada Las Vegas; Lied Library; 4505 Maryland Parkway; Las Vegas, NV 89154-7039.

Las Vegas Yucca Mountain Science Center—Contact: Claire Whetsel; (702) 295-1312; 4101-B Meadows Lane; Las Vegas, NV 89107.

Nye County—Contact: Les Bradshaw; (775) 727-7727; Department of Natural Resources and Federal Facilities; 1210 E. Basin Avenue, Suite 6; Pahrump, NV 89060.

Pahrump Yucca Mountain Science Center—Contact: John Pawlak; (775) 727-0896; 1141 South Highway 160, Suite #3; Pahrump, NV, 89041.

Reno, Nevada—Contact: Patrick Ragains; (775) 784-6500, Ext. 309; University of Nevada, Reno; The University of Nevada Libraries; Business and Government Information Center M/S 322; 1664 N. Virginia Street; Reno, NV 89557-0044.

New Mexico

University of New Mexico—Contact: Dave Baldwin; (505) 277-5441; U.S. DOE Contract Reading Room; Zimmerman Library; Albuquerque, NM 87131-1466.

Ohio

Fernald Area Office—Contact: Diana Rayer; (513) 648-7480; U.S. Department of Energy; Public Information Room; 10995 Hamilton Cleves Highway, M/S 78; Harrison, OH 45030.

Oklahoma

National Energy Technology Lab, National Petroleum Technology Office—Contact: Bernadette Ward; (918) 699-2033; U.S. Department of Energy; 1 Williams Tower I, West 3rd Street, Suite 1400; Tulsa, OK 74103.

Southwestern Power Administration—Contact: Marti Ayres; (918) 595-6609; U.S. Department of Energy; Public Reading Room; 1 West 3rd, Suite 1600; Tulsa, OK 74103-3519.

Oregon

Bonneville Power Administration—Contact: Bill Zimmerman; (503) 230-7334; U.S. Department of Energy; BPA-C-ILL-1; 905 NE 11th Street; Portland, OR 97232.

Pennsylvania

Pittsburgh Energy Technology Center—Contact: Ann C. Dunlap; (412) 386-6167; U.S. Department of Energy; Building 922/M210; Cochrans Mill Road; Pittsburgh, PA 15236-0940.

South Carolina

Savannah River Operations Office—Contact: Pauline Conner; (803) 725-1408; Gregg-Graniteville Library; University of South Carolina-Aiken; 171 University Parkway; Aiken, SC 29801.

University of South Carolina—Contact: William Suddeth; (803) 777-4841; Thomas Cooper Library; Documents/Microforms Department; Green and Sumter Streets; Columbia, SC 29208.

Tennessee

Oak Ridge Operations Office—Contact: Walter Perry; (865) 241-4780; U.S. Department of Energy; 475 Oakridge Turnpike; Oak Ridge, TN 37830.

Texas

Southern Methodist University—Contact: Joseph Milazzo; (214) 768-2561; Fondren Library East; Government Information; 6414 Hilltop Lane, Room 102; Dallas, TX 75275.

Utah

University of Utah—Contact: Walter Jones; (801) 581-8863; Marriott Library Special Collections; 295 South 15th East; Salt Lake City, UT 84112-0860.

Washington

Richland Operations Center—Contact: Terri Traub; (509) 372-7443; U.S. Department of Energy; Public Reading Room; 2770 University Drive; Room 101L; Mailstop H2-53; Richland, WA 99352.

Issued in Washington, DC, October 11, 2002.
Margaret S. Y. Chu,
Director, Office of Civilian Radioactive Waste Management.

[FR Doc. 02-27207 Filed 10-24-02; 8:45 am]

BILLING CODE 6450-01-P